DEPARTMENT OF HEALTH AND HUMAN SERVICES

Centers for Disease Control and Prevention

Disease, Disability, and Injury Prevention and Control Special Emphasis Panel (SEP): Reproductive Health Research, Request for Applications Number (RFA) DP-05-010

In accordance with Section 10(a)(2) of the Federal Advisory Committee Act (Public Law 92-463), the Centers for Disease Control and Prevention (CDC) announces the following meeting:

Name: Disease, Disability, and Injury Prevention and Control Special Emphasis Panel (SEP): Reproductive Health Research, RFA DP-05-010.

Times and Dates: 8:30 a.m.-9 a.m., January 10, 2005 Panel A (Open). 9 a.m.-5 p.m., January 10, 2005 Panel A (Closed). 9 a.m.-2 p.m., January 11, 2005 Panel A (Closed). 8:30 a.m.-9 a.m., January 11, 2005 Panel B (Open). 9 a.m.-5 p.m., January 11, 2005 Panel B (Closed). 9 a.m.-2 p.m., January 12, 2005 Panel B (Closed). 8:30 a.m.-9 a.m., January 12, 2005 Panel C (Open). 9 a.m.-5 p.m., January 12, 2005 Panel C (Closed). 9 a.m.-5 p.m., January 13, 2005 Panel C (Closed).

Place: Sheraton Colony Square Hotel, 188 14th Street, NE., Atlanta, GA 30361, Telephone Number 404.892.6000.

Status: Portions of the meeting will be closed to the public in accordance with provisions set forth in Section 552b(c) (4) and (6), Title 5 U.S.C., and the Determination of the Director, Management Analysis and Services Office, CDC, pursuant to Public Law 92-463.

Matters to be Discussed: The meeting will include the review, discussion, and evaluation of applications received in response to: Reproductive Health Research, RFA DP-05-010.

Contact Person for More Information: Antonia J. Spadaro, EdD, Centers for Disease Control and Prevention, National Center for Chronic Disease and Health Promotion, 4770 Buford Hwy, Mailstop K-92, Atlanta, GA 30341, Telephone 770.488.5809.

The Director, Management Analysis and Services Office, has been delegated the authority to sign Federal Register notices pertaining to announcements of meetings and other committee management activities, for both CDC and the Agency for Toxic Substances and Disease Registry.

Dated: December 8, 2004.
Alvin Hall,
Director, Management Analysis and Services Office, Centers for Disease Control and Prevention (CDC).

[FR Doc. 04-27516 Filed 12-15-04; 8:45 am]

BILLING CODE 4163-18-P